DEPARTMENT OF ENERGY

Federal Energy Regulatory Commission

[Docket No. RP00-337-001]

Kern River Gas Transmission Company; Notice of Proposed Pro Forma Changes in FERC Gas Tariff

January 10, 2001.

Take notice that on January 5, 2001, Kern River Gas Transmission Company (Kern River) tendered for filing as part of its FERC Gas Tariff, Second Revised Volume No. 1, the following pro forma tariff sheets:

Sheet No. 76, Sheet No. 106, Sheet No. 125, Sheet No. 125-A, Sheet No. 126, Sheet No. 135, Sheet No. 147, Sheet No. 148, Sheet No. 200, Sheet No. 201, Sheet No. 202, Sheet No. 501, Sheet No. 601, Sheet No. 701, Sheet No. 815, Sheet No. 825, Sheet No. 826, and Sheet No. 901

Kern River states that the purpose of this filing is to submit pro forma tariff sheets reflecting a proposed segmentation policy to be added to Kern River's tariff.

Kern River states that it has served copy of this filing upon each person designated on the official service list compiled by the Secretary in this proceeding.

Any person desiring to protest said filing should file a protest with the Federal Energy Regulatory Commission, 888 First Street, NE., Washington, DC 20426, in accordance with Section 385.211 of the Commission's Rules and Regulations. All such protests must be filed on or before January 19, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1257 Filed 1-16-01; 8:45 am]

BILLING CODE 6717-01-M